DEPARTMENT OF THE INTERIOR

Bureau of Indian Affairs

[167A21000DD/AAKC001030/A0A501010.9999.00]

Final Environmental Impact Statement for the Pokagon Band of Potawatomi Indians Fee to Trust Transfer for Tribal Village and Casino, City of South Bend, St. Joseph County, Indiana

AGENCY: Bureau of Indian Affairs, Interior.

ACTION: Notice of availability.

SUMMARY: The Bureau of Indian Affairs (BIA) as the lead Federal agency, with the Pokagon Band of Potawatomi Indians, the Environmental Protection Agency, and U.S. Army Corps of Engineers as cooperating agencies, has prepared a Final Environmental Impact Statement (FEIS) for the proposed approval of the fee-to-trust transfer of land located within the municipal limits of the City of South Bend, Indiana, for the construction of tribal housing, government facilities, and a Class III gaming facility. This notice also announces the FEIS is now available for public review. Copies are available upon request or may be found at the addresses indicted in the SUPPLEMENTARY INFORMATION section below.

DATES: The Record of Decision (ROD) on the proposed action will be issued no sooner than 30 days after the release of the FEIS.

ADDRESSES: You may request a copy of the FEIS by contacting Ms. Diane Rosen, Regional Director, Midwest Region, Bureau of Indian Affairs, 5600 West American Boulevard, Suite 500, Bloomington, MN 55437, telephone (612) 725-4500, fax (612) 713-4401. Please see the SUPPLEMENTARY INFORMATION section of this notice for directions on how to obtain a copy of the FEIS.

FOR FURTHER INFORMATION CONTACT: Mr. Scott Doig, Regional Environmental Scientist, Midwest Region, Bureau of Indian Affairs, 5600 West American Boulevard, Suite 500, Bloomington, MN 55437, telephone (612) 725-4514, fax (612) 713-4401.

SUPPLEMENTARY INFORMATION: The Pokagon Band of Potawatomi Indians (Tribe) has requested BIA to take 165.81 acres, more or less, into trust on behalf of the Tribe, on which the Tribe proposes to develop a casino-hotel complex. The proposed project is located within the municipal limits of the City of South Bend, in St. Joseph County, Indiana. The BIA serves as lead agency for compliance with the National Environmental Policy Act (NEPA). The Tribe, Environmental Protection Agency, and U.S. Army Corps of Engineers, as entities having jurisdiction and special expertise relevant to potentially affected resources, are acting as cooperating agencies.

The purpose of the proposed action is to improve access to essential tribal government services, and provide housing, employment opportunities and economic development for the tribal community residing in northern Indiana. The Tribe proposes to develop 44 housing units, a multi-purpose facility, health service, and other tribal government facilities. The Tribe also proposes to develop a Class III gaming facility with a hotel, restaurants, meeting space, and a parking garage. A range of project alternatives is considered in the FEIS, including: (1) Preferred Alternative-South Bend tribal housing, government facilities, and casino; (2) Elkhart site with same uses as the preferred alternative; (3) South Bend site with government facilities and commercial development; and (4) no action. Alternative 1, the Preferred Alternative, reflects the Tribe's proposed project and has been selected as the Preferred Alternative as discussed in the FEIS. The information and analysis contained in the EIS, as well as its evaluation and assessment of the Preferred Alternative, are intended to assist the review of the issues presented in the Tribe's fee-to-trust application. The Preferred Alternative does not necessarily reflect the Department of the Interior's (Department) final decision, because the Department must evaluate all of the criteria in 25 CFR part 151. The Department's consideration and analysis of the applicable criteria may lead to a final decision that selects an alternative other than the Preferred Alternative. Environmental issues addressed in the FEIS include land and water resources, air quality, biological resources, cultural and paleontological resources, socioeconomic conditions, transportation and circulation, land use, public services, noise, hazardous materials, visual resources, environmental justice, cumulative effects, indirect effects, and mitigation.

The BIA has afforded other government agencies and the public opportunity to participate in the preparation of this FEIS. The BIA published a Notice of Intent to Prepare an EIS (NOI) for the proposed action in the Federal Register on August 24, 2012. See 77 FR 51558. The BIA held a public scoping meeting on September 27, 2012, in South Bend, Indiana. A Notice of Availability (NOA) for the Draft EIS (DEIS) was published in the Federal Register on March 12, 2015. See 80 FR 13014. The document was available for public comment from March 12, 2015 to April 28, 2015, and a public hearing was held on April 14, 2015, in South Bend, Indiana.

Locations where the FEIS is Available for Review: The FEIS will be available at the South Bend Public Library, Main Branch, 304 S. Main St., South Bend, IN 46601, and the Elkhart Public Library, Main Branch, 300 S 2nd St, Elkhart, IN 46516. An electronic version of the FEIS can be viewed at the following Web site: www.pokagonsouthbendeis.com. If you would like to obtain a compact disc copy of the FEIS, please provide your name and address in writing or by voicemail to the person listed in the ADDRESSES section of this notice. Individual paper copies of the FEIS will be provided only upon payment of applicable printing expenses by the requestor for the number of copies requested.

Authority: This notice is published pursuant to Sec. 1503.1 of the Council of Environmental Quality Regulations (40 CFR parts 1500 through 1508) and Sec. 46.305 of the Department of the Interior Regulations (43 CFR part 46), implementing the procedural requirements of the National Environmental Policy Act of 1969, as amended (42 U.S.C. 4321 et seq.), and is in the exercise of authority delegated to the Assistant Secretary—Indian Affairs by 209 DM 8.

Dated: July 11, 2016.
Lawrence S. Roberts,
Acting Assistant Secretary—Indian Affairs.

[FR Doc. 2016-17074 Filed 7-21-16; 8:45 am]

BILLING CODE 4337-15-P